DEPARTMENT OF TRANSPORTATION

Federal Highway Administration

Environmental Impact Statement; Nueces County, TX

AGENCY: Federal Highway Administration (FHWA), DOT.

ACTION: Notice of Intent (NOI).

SUMMARY: Pursuant to 40 CFR 1508.22 and 43 TAC § 2.5(e)(2), the FHWA and the Texas Department of Transportation (TxDOT) are issuing this notice to advise the public that an environmental impact statement (EIS) will be prepared for the proposed United States (US) Highway 181 Harbor Bridge replacement/State Highway (SH) 286 (Crosstown Expressway) improvement project in Nueces County, Texas. The project and study limits include the US 181 and Beach Avenue interchange on the north and the SH 286 and Morgan Avenue interchange on the south. Areas within the city of Corpus Christi are included in the study area. The project will be developed in compliance with Section 6002 of the Safe, Accountable, Flexible, Efficient Transportation Equity Act: A Legacy for Users (SAFETEA-LU) and the National Environmental Policy Act (NEPA).

FOR FURTHER INFORMATION CONTACT: Gregory Punske, P.E., District Engineer, Federal Highway Administration—Texas Division, 300 East 8th Street, Austin, Texas 78701. Telephone: 512-536-5960.

SUPPLEMENTARY INFORMATION: The US 181 Harbor Bridge project is listed in the Corpus Christi Metropolitan Planning Organization's Metropolitan Transportation Plan 2010-2035 (the long range transportation plan) as construction of a new bridge over the Corpus Christi Ship Channel. An NOI for this project was first published on May 20, 2005, for proposed improvements that included replacement of the existing Harbor Bridge and approaches where US 181 crosses the Corpus Christi Ship Channel, a roadway distance of approximately 2.25 miles. On March 20, 2007, a revised NOI was published to advise the public that the study limits described in the 2005 NOI had been expanded to accommodate added capacity that might have included managed lanes or various tolling strategies; the primary change was to the southern limit which would have extended the project along SH 286 to SH 358 (South Padre Island Drive). On November 3, 2010, the revised NOI published in 2007 was rescinded, via a notice in the Federal Register, because of changes in the scope (managed toll lanes) and limits. The project limits have now been revised to eliminate the added capacity that would have included managed lanes and various tolling strategies and have been reduced on the south end back to SH 286 and Morgan Avenue. The new project limits are as follows: the northern limit is the US 181 and Beach Avenue interchange located north of the Corpus Christi Ship Channel but south of the Nueces Bay Causeway; the southern limit is SH 286 between Morgan Avenue and Baldwin Boulevard; the eastern limit is the Interstate Highway (I)-37/U.S. 181 intersection with Shoreline Boulevard in the Corpus Christi central business district (CBD); and the western limit is the I-37 and Nueces Bay Boulevard interchange. The new project limits total approximately 4.5 miles in length from north to south along US 181 and SH 286 and approximately 2.1 miles in length from east to west along I-37.

The proposed US 181 Harbor Bridge replacement is based on several needs: safety concerns, lack of capacity (need for additional travel lanes), connectivity to local roadways, poor level of service, and increasing traffic demand. In addition to these needs, the bridge's existing structure also has deficiencies, including high maintenance costs and navigational restrictions. The proposed improvements both to US 181/SH 286 and Harbor Bridge will address the structural deficiencies and navigational restrictions and improve safety, connectivity, and level of service in the study area.

The purpose of the project is to correct these established needs identified above and to promote, enhance and spur economic development in the area. It is anticipated that additional larger ship traffic is expected at the Port of Corpus Christi. The impacts and benefits of such will also be analyzed in the indirect and cumulative impacts analyses for the subject project.

Alternatives under consideration include (1) taking no action, and (2) Transportation System Management (TSM)/Transportation Demand Management, and (3) replacing the existing US 181 Harbor Bridge and approach roads with a facility that meets current highway design standards. A Feasibility Study completed in 2003 evaluated four build corridor alternatives, one along the existing alignment and three along new location alignments, as well as the No-build alternative. The Feasibility Study resulted in the identification of a recommended study corridor (new location alignment) for the bridge replacement component. All reasonable alternatives, that meet Purpose and Need of the project, including the alternatives developed in the Feasibility Study, will be identified and evaluated in the EIS, in addition to the No-build Alternative, based on input from Federal, state, and local agencies, as well as private organizations and concerned citizens.

Impacts caused by the construction and operation of the proposed improvements would vary depending on the alternative alignment used. At this time, to the best of our knowledge, significant impacts are anticipated in and to the community; including but not limited to: impacts to residences and businesses, including displacement; impacts to public parkland; social and economic impacts, including impacts to minority and low-income communities; and impacts to historic properties including the bridge itself. Additional impacts could potentially include the following: transportation impacts (construction detours, construction traffic, and mobility improvement); air quality and noise impacts from construction equipment and operation of the roadway; impacts to threatened and endangered species; impacts to waters of the U.S. including wetlands; and potential indirect and cumulative impacts.

A Coordination Plan will be prepared that addresses the project history, need and purpose, preliminary alternatives, and project schedule. A letter that describes the proposed action and a request for comments will be sent to appropriate Federal, state, and local agencies, and to private organizations and citizens who have previously expressed interest in the proposal. In conjunction with the Feasibility Study completed in June 2003, TxDOT developed a public involvement plan, sponsored three citizens' advisory committee (CAC) meetings, held two public meetings, and distributed two newsletters. Initial agency and public scoping meetings were held in June 2005 and May 2007. A new public involvement program will be developed that includes a project mailing list, project Web site, project newsletters, new agency and public scoping meetings, CAC and Technical Advisory Committee, and informal meetings with interested citizens and stakeholders. In addition, a public hearing will be held after the publication of the draft EIS. Public notice will be given of the time and place of the hearing. The draft EIS will be available for public and agency review and comment prior to the public hearing.

A public and agency scoping meeting will be held at the TxDOT Corpus Christi District Office—Training Center, 1701 S. Padre Island Drive, Corpus Christi, TX 78416, by TxDOT on August 9, 2011 to provide an opportunity for participating agencies, cooperating agencies, and the public to be involved in review and comment on the draft Coordination Plan, defining the need and purpose for the proposed project, determining the range of alternatives for consideration in the draft EIS, and establishing methodologies to evaluate alternatives. TxDOT will publish notice in general circulation newspapers in the project area at least 30 days prior to the meeting, and again approximately 10 days prior to the meeting.

To ensure that the full range of issues related to this proposed action is addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372, regarding intergovernmental consultation on Federal programs and activities, apply to this program.)

Issued on: June 16, 2011.
Gregory S. Punske,
District Engineer, Austin, Texas.

[FR Doc. 2011-15577 Filed 6-21-11; 8:45 am]

BILLING CODE 4910-22-P